NUCLEAR REGULATORY COMMISSION

[Docket Nos. 50-295 and 50-304

Commonwealth Edison Company Zion Nuclear Power Station, Units 1 and 2; Notice of Consideration of Approval of Transfer of Facility Operating Licenses and Conforming Amendments and Opportunity for a Hearing

Correction

In notice document 00-5743 beginning on page 12586 in the issue of Thursday, March 9, 2000, make the following correction:

On page 12587, in the first column, in the 8th line, “April 29, 2000” should read “March 29, 2000”.

[FR Doc. C0-5743 Filed 3-23-00; 8:45 am]

BILLING CODE 1505-01-D

SECURITIES AND EXCHANGE COMMISSION

[Extension: Rule 17a-6; SEC File No. 270-433; OMB Control No. 3235-0489]

Request Under Review by Office of Management and Budget

Correction

In notice document 00-6202 on page 13799 in the issue of Tuesday March 14, 2000, the ÿ7Eÿ7Eagency 's name is corrected to read as set forth above.

[FR Doc. C0-6202 Filed 3-23-00; 8:45 am]

BILLING CODE 1505-01-D

SECURITIES AND EXCHANGE COMMISSION

17 CFR Part 270

[Release Nos. 33-7728A, IC-23958A, IA-1815A; File No. S7-25-95]

RIN 3235-AG27

Personal Investment Activities of Investment Company Personnel

Correction

In rule document 00-5914 beginning on page 12943 in the issue of Friday, March 10, 2000, make the following correction:

On page 12934, in the second column, above the signature, ``Dated: March 6, 200'' should read ``Dated: March 6, 2000''.

[FR Doc. C0-5914 Filed 3-23-00; 8:45 am]

BILLING CODE 1505-01-D

SECURITIES AND EXCHANGE COMMISSION

[Release No. 34-42494; File No. SR- NASD-00-06]

Self-Regulatory Organizations; Notice of Filing and Immediate Effectiveness of Proposed Rule Change by the National Association of Securities Dealers, Inc. Relating to the Delay of the Implementation Date of Changes to Riskless Principal Trade Reporting Rules

March 3, 2000.

Correction

In notice document 00-5916, beginning on page 13069, in the issue of Friday, March 10, 2000, make the following correction:

On page 13069, in the third column, the date line is added to read as set forth above.

[FR Doc. C0-5916 Filed 3-23-00; 8:45 am]

BILLING CODE 1505-01-D

SECURITIES AND EXCHANGE COMMISSION

[Release No. 35-27149]

Filings Under the Public Utility Holding Company Act of 1935, as Amended, (``Act'')

Correction

In notice document 00-6077 beginning on page 13349 in the issue of Monday, March 13, 2000, make the following corrections:

1. On page 13349, in the third column, the ÿ7Eÿ7Eagency's name is corrected to read as set forth above.

2. On the same page, in the same column, in the sixth line from the bottom, ``March 8, 2000'' should read ``March 28, 2000''.

[FR Doc. C0-6077 Filed 3-23-00; 8:45 am]

BILLING CODE 1505-01-D